FEDERAL COMMUNICATIONS COMMISSION

Radio Broadcasting Services; AM or FM Proposals To Change the Community of License

AGENCY: Federal Communications Commission.

ACTION: Notice.

SUMMARY: The following applicants filed AM or FM proposals to change the community of license: DAVAO LLC, Station KWAP, Facility ID 165961, BMPH-20080611AAZ, From PINE HAVEN, WY, To ROZET, WY; JER LICENSES, LLC, Station NEW, Facility ID 170966, BNPH-20070502ACF, From GRAPELAND, TX, To BULLARD, TX; MATINEE RADIO, LLC, Station KKUL-FM, Facility ID 164216, BMPH-20080523ADF, From GROVETON, TX, To TRINITY, TX; ULTIMATE CAPS, INC., Station KYDT, Facility ID 78241, BPH-20080611ABA, From SUNDANCE, WY, To PINE HAVEN, WY; UNITED STATES CP, LLC, Station KXCL, Facility ID 164277, BPH-20080606AES, From WESTCLIFFE, CO, To FORT CARSON, CO.

DATES: Comments may be filed through September 8, 2008.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division, Media Bureau.

[FR Doc. E8-15593 Filed 7-8-08; 8:45 am]

BILLING CODE 6712-01-P